DEPARTMENT OF ENERGY

Federal Energy Regulatory Commission

Combined Notice of Filings #1

Take notice that the Commission received the following exempt wholesale generator filings:

Docket Numbers: EG22-68-000.

Applicants: Kearny Mesa Storage, LLC.

Description: Kearny Mesa Storage, LLC submits Notice of Self-Certification of Exempt Wholesale Generator Status.

Filed Date: 3/18/22.

Accession Number: 20220318-5249.

Comment Date: 5 p.m. ET 4/8/22.

Docket Numbers: EG22-69-000.

Applicants: EnerSmart Murray BESS LLC.

Description: Notice of Self-Certification of Exempt Wholesale Generator Status of EnerSmart Murray BESS LLC.

Filed Date: 3/21/22.

Accession Number: 20220321-5107.

Comment Date: 5 p.m. ET 4/11/22.

Take notice that the Commission received the following electric rate filings:

Docket Numbers: ER17-1821-004.

Applicants: Panda Stonewall LLC.

Description: Refund Report: Potomac Energy Center, LLC submits tariff filing per 35.19a(b): Refund Report to be effective N/A.

Filed Date: 3/21/22.

Accession Number: 20220321-5033.

Comment Date: 5 p.m. ET 4/11/22.

Docket Numbers: ER20-1718-003.

Applicants: New York Independent System Operator, Inc.

Description: Compliance filing: Compliance and request for extension of time re: Part A Enhancement filing to be effective N/A.

Filed Date: 3/21/22.

Accession Number: 20220321-5145.

Comment Date: 5 p.m. ET 4/11/22.

Docket Numbers: ER20-1832-002.

Applicants: Duke Energy Ohio, Inc., Duke Energy Kentucky, Inc., PJM Interconnection, L.L.C.

Description: Compliance filing: Duke Energy Ohio, Inc. submits tariff filing per 35: DEOK Att. H-22A Compliance with Jan. 20, 2022 Order ER20-1832 to be effective 1/27/2020.

Filed Date: 3/21/22.

Accession Number: 20220321-5144.

Comment Date: 5 p.m. ET 4/11/22.

Docket Numbers: ER20-1957-001.

Applicants: Gulf Power Company.

Description: Compliance filing: Amendments to Compliance Filing to be effective 1/27/2020.

Filed Date: 3/21/22.

Accession Number: 20220321-5039.

Comment Date: 5 p.m. ET 4/11/22.

Docket Numbers: ER20-1961-002.

Applicants: Southwest Power Pool, Inc.

Description: Compliance filing: Compliance Filing in Response to Order Issued in ER20-1961 (NorthWestern) to be effective 1/27/2020.

Filed Date: 3/21/22.

Accession Number: 20220321-5113.

Comment Date: 5 p.m. ET 4/11/22.

Docket Numbers: ER22-725-000.

Applicants: Puget Sound Energy, Inc.

Description: Refund Report: PSE Refund Report PSEM Transmission Service Agreement to be effective N/A.

Filed Date: 3/18/22.

Accession Number: 20220318-5167.

Comment Date: 5 p.m. ET 4/8/22.

Docket Numbers: ER22-827-000.

Applicants: Kentucky Utilities Company.

Description: Refund Report: KU_APCO Borderline Service Rate Compliance Refund Report to be effective N/A.

Filed Date: 3/21/22.

Accession Number: 20220321-5099.

Comment Date: 5 p.m. ET 4/11/22.

Docket Numbers: ER22-1101-000; ER22-1102-000.

Applicants: Sierra Energy Storage, LLC, Cascade Energy Storage, LLC.

Description: Supplement to February 23, 2022 Cascade Energy Storage, LLC submits tariff filing per 35.12: Application for Market-Based Rate Authority and Requests for Waivers to be effective 2/24/2022.

Filed Date: 3/4/22.

Accession Number: 20220304-5286.

Comment Date: 5 p.m. ET 3/25/22.

Docket Numbers: ER22-1394-000.

Applicants: California Independent System Operator Corporation.

Description: § 205(d) Rate Filing: 2022-03-18 Amendment No. 1 to JOU Pilot Agreement to be effective 5/3/2022.

Filed Date: 3/18/22.

Accession Number: 20220318-5180.

Comment Date: 5 p.m. ET 4/8/22.

Docket Numbers: ER22-1395-000.

Applicants: Public Service Company of New Mexico.

Description: § 205(d) Rate Filing: Transmission Service Agreements SA 244 and SA 278-1 to be effective 5/17/2022.

Filed Date: 3/18/22.

Accession Number: 20220318-5183.

Comment Date: 5 p.m. ET 4/8/22.

Docket Numbers: ER22-1396-000.

Applicants: Public Service Company of New Mexico.

Description: § 205(d) Rate Filing: Transmission Agreements to be effective 5/17/2022.

Filed Date: 3/18/22.

Accession Number: 20220318-5186.

Comment Date: 5 p.m. ET 4/8/22.

Docket Numbers: ER22-1396-001.

Applicants: Public Service Company of New Mexico.

Description: Tariff Amendment: Update Tariff Records 2 of 3 to be effective 5/17/2022.

Filed Date: 3/21/22.

Accession Number: 20220321-5000.

Comment Date: 5 p.m. ET 4/11/22.

Docket Numbers: ER22-1396-002.

Applicants: Public Service Company of New Mexico.

Description: Tariff Amendment: Update TSAs 3 of 3 to be effective 5/17/2022.

Filed Date: 3/21/22.

Accession Number: 20220321-5001.

Comment Date: 5 p.m. ET 4/11/22.

Docket Numbers: ER22-1397-000.

Applicants: PJM Interconnection, L.L.C.

Description: § 205(d) Rate Filing: Revisions to Sch. 12-Appx A: Feb. 2022 RTEP, 30-Day Comment Period Requested to be effective 6/16/2022.

Filed Date: 3/18/22.

Accession Number: 20220318-5187.

Comment Date: 5 p.m. ET 4/8/22.

Docket Numbers: ER22-1398-000.

Applicants: NextEra Energy Transmission New York, Inc.

Description: Informational Filing of NextEra Energy Transmission New York's 2021 and 2022 Formula Rate Revenue Requirement Projections.

Filed Date: 3/15/22.

Accession Number: 20220315-5302.

Comment Date: 5 p.m. ET 4/5/22.

Docket Numbers: ER22-1399-000.

Applicants: Public Service Company of New Mexico.

Description: § 205(d) Rate Filing: Affiliate Agreements to be effective 5/20/2022.

Filed Date: 3/21/22.

Accession Number: 20220321-5048.

Comment Date: 5 p.m. ET 4/11/22.

Docket Numbers: ER22-1399-001.

Applicants: Public Service Company of New Mexico.

Description: Tariff Amendment: Update for eTariff Sequencing to be effective 5/20/2022.

Filed Date: 3/21/22.

Accession Number: 20220321-5067.

Comment Date: 5 p.m. ET 4/11/22.

Docket Numbers: ER22-1401-000.

Applicants: Duke Energy Indiana, LLC.

Description: § 205(d) Rate Filing: 2022 Annual Reconciliation filing—DEI Rate Schedule No. 253 to be effective 7/1/2021.

Filed Date: 3/21/22.

Accession Number: 20220321-5064.

Comment Date: 5 p.m. ET 4/11/22.

Docket Numbers: ER22-1402-000.

Applicants: Parkway Generation Keys Energy Center LLC.

Description: Compliance filing: Notice of Succession and Submission of New eTariff Baseline and Tariff Revisions to be effective 3/22/2022.

Filed Date: 3/21/22.

Accession Number: 20220321-5073.

Comment Date: 5 p.m. ET 4/11/22.

Docket Numbers: ER22-1403-000.

Applicants: Northern States Power Company, a Minnesota corporation.

Description: § 205(d) Rate Filing: 2022-03-21-NSP-GRE-SISA-Kimball-703-0.0.0 to be effective 3/22/2022.

Filed Date: 3/21/22.

Accession Number: 20220321-5083.

Comment Date: 5 p.m. ET 4/11/22.

Docket Numbers: ER22-1404-000.

Applicants: Parkway Generation Operating LLC.

Description: Compliance filing: Notice of Succession and Submission of New eTariff Baseline and Tariff Revisions to be effective 3/22/2022.

Filed Date: 3/21/22.

Accession Number: 20220321-5096.

Comment Date: 5 p.m. ET 4/11/22.

Docket Numbers: ER22-1405-000.

Applicants: Midcontinent Independent System Operator, Inc.

Description: § 205(d) Rate Filing: 2022-03-21_SA 3228 IPL-ITC Midwest 2nd Rev GIA (J495) to be effective 3/9/2022.

Filed Date: 3/21/22.

Accession Number: 20220321-5100.

Comment Date: 5 p.m. ET 4/11/22.

Docket Numbers: ER22-1406-000.

Applicants: Parkway Generation Operating LLC.

Description: Tariff Amendment: Notice of Cancellation of Rate Schedules and Service Agreements Tariff to be effective 3/22/2022.

Filed Date: 3/21/22.

Accession Number: 20220321-5102.

Comment Date: 5 p.m. ET 4/11/22.

Docket Numbers: ER22-1407-000.

Applicants: AEP Texas Inc.

Description: § 205(d) Rate Filing: AEPTX-BT Cantwell Solar (Arroyo Solar) 1st A&R GIA to be effective 3/4/2022.

Filed Date: 3/21/22.

Accession Number: 20220321-5103.

Comment Date: 5 p.m. ET 4/11/22.

Docket Numbers: ER22-1408-000.

Applicants: Parkway Generation Operating LLC.

Description: Tariff Amendment: Notice of Cancellation of Capacity Interconnection Rights Purchase Agreement to be effective 3/22/2022.

Filed Date: 3/21/22.

Accession Number: 20220321-5104.

Comment Date: 5 p.m. ET 4/11/22.

Docket Numbers: ER22-1409-000.

Applicants: Midcontinent Independent System Operator, Inc., Ameren Transmission Company of Illinois.

Description: § 205(d) Rate Filing: Midcontinent Independent System Operator, Inc. submits tariff filing per 35.13(a)(2)(iii: 2022-03-21_ATXI Attachment O Transmission Formula Rate to be effective 6/1/2022.

Filed Date: 3/21/22.

Accession Number: 20220321-5121.

Comment Date: 5 p.m. ET 4/11/22.

Docket Numbers: ER22-1410-000.

Applicants: Kentucky Power Company.

Description: § 205(d) Rate Filing: MBR Tariff Filing to be effective 12/31/9998.

Filed Date: 3/21/22.

Accession Number: 20220321-5130.

Comment Date: 5 p.m. ET 4/11/22.

Docket Numbers: ER22-1411-000.

Applicants: Parkway Generation Keys Energy Center LLC.

Description: Compliance filing: Notice of Succession—Reactive Service Tariff to be effective 3/22/2022.

Filed Date: 3/21/22.

Accession Number: 20220321-5133.

Comment Date: 5 p.m. ET 4/11/22.

Docket Numbers: ER22-1413-000.

Applicants: Parkway Generation Operating LLC.

Description: Compliance filing: Notice of Succession—Reactive Service Tariff—Essex Generation Station to be effective 3/22/2022.

Filed Date: 3/21/22.

Accession Number: 20220321-5137.

Comment Date: 5 p.m. ET 4/11/22.

Docket Numbers: ER22-1414-000.

Applicants: Parkway Generation Operating LLC.

Description: Compliance filing: Notice of Succession Reactive Service Tariff—Remainder of Generating Facilities to be effective 3/22/2022.

Filed Date: 3/21/22.

Accession Number: 20220321-5141.

Comment Date: 5 p.m. ET 4/11/22.

Take notice that the Commission received the following foreign utility company status filings:

Docket Numbers: FC22-1-000.

Applicants: I Squared Capital.

Description: Notice of Self-Certification of Exempt Wholesale Generator Status of Conrad Companies.

Filed Date: 3/18/22.

Accession Number: 20220318-5237.

Comment Date: 5 p.m. ET 4/8/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding. eFiling is encouraged. More detailed information relating to filing requirements, interventions, protests, service, and qualifying facilities filings can be found at: http://www.ferc.gov/docs-filing/efiling/filing-req.pdf. For other information, call (866) 208-3676 (toll free). For TTY, call (202) 502-8659.

Dated: March 21, 2022.
Debbie-Anne A. Reese,
Deputy Secretary.

[FR Doc. 2022-06303 Filed 3-24-22; 8:45 am]

BILLING CODE 6717-01-P